POSTAL SERVICE

International Product Change—Canada Post-United States Postal Service Contractual Bilateral Agreement for Inbound Market-Dominant Services

Agency: Postal Service™.

Action: Notice.

Summary: The Postal Service gives notice of its intent to file a request with the Postal Regulatory Commission to add the Canada Post-United States Postal Service Contractual Bilateral Agreement for Inbound Market-Dominant Services to the Market-Dominant Products List pursuant to 39 U.S.C. 3642 and of its exercise of its authority to adjust rates for that product pursuant to 39 U.S.C. 3622.

DATES: December 2, 2009.

FOR FURTHER INFORMATION CONTACT: Margaret M. Falwell, 703-292-3576.

SUPPLEMENTARY INFORMATION: The United States Postal Service® hereby gives notice that on November 19, 2009, it filed with the Postal Regulatory Commission a Request of United States Postal Service to Add Canada Post-United States Postal Service Contractual Bilateral Agreement for Inbound Market-Dominant Services to the Market-Dominant Product List, Notice of Type 2 Rate Adjustment, and Notice of Filing Agreement (Under Seal). The Postal Service further provides notice that it has determined to exercise its statutory authority to make a Type 2 rate adjustment for the proposed market dominant postal product. The implementation date for these rates is January 4, 2010. Documents are or will be available under Docket Numbers MC2010-12 and R2010-2 on the Postal Regulatory Commission's Web site, http://www.prc.gov.

Neva R. Watson,
Attorney, Legislative.

[FR Doc. E9-28767 Filed 12-1-09; 8:45 am]

BILLING CODE 7710-12-P